DEPARTMENT OF AGRICULTURE

Submission for OMB Review; Comment Request

September 19, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by October 24, 2018 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Business Cooperative Service

Title: 7 CFR part 1980-E, Business and Industry Loan Program.

OMB Control Number: 0570-0014.

Summary of Collection: The Business and Industry (B&I) program was legislated in 1972, under Section 310B of the Consolidated Farm and Rural Development Act (Con Act), as amended. The purpose of the program is to improve, develop, or finance businesses, industries, and employment and improve the economic and environmental climate in rural communities, including pollution abatement and control. This purpose is achieved through bolstering the existing private credit structure by making direct loans, thereby providing lasting community benefits. The B&I program is administered by the Agency through Rural Development State and sub-State Offices serving the State.

7 CFR 1980-E, in conjunction with 7 CFR 1942-A, and other regulations, is currently used only for making B&I Direct Loans. 7 CFR 1951-E is used for servicing B&I Direct and Community Facility loans. All reporting and recordkeeping burden estimates for making and servicing B&I Guaranteed Loans have been moved to the B&I Guaranteed Loan Program regulations, 7 CFR 4279-A and B and 4287-B. Consequently, only a fraction of the total reporting and recordkeeping burden for making and servicing B&I Direct Loans is reflected in this document.

Need and Use of the Information: RD will collect the minimum information needed from loan applicants and commercial lenders to make determinations regarding program eligibility, the current financial condition of a business and loan security as required by the Con Act. Most of the information is collected only once, and the agency monitors the progress of the business through the analysis of annual borrower financial statements and visits to the borrower.

Description of Respondents: Individuals or Households; Business or Other for Profit.

Number of Respondents: 16.

Frequency of Responses: Reporting: On occasion.

Total Burden Hours: 228.

Rural Business Service

Title: 7 CFR 1951-R, Rural Development Loan Servicing.

OMB Control Number: 0570-0015.

Summary of Collection: The Rural Development (RD) Loan Servicing was legislated in 1985 under Section 1323 of the Food and Security Act of 1985. This action is needed to implement the provision of Section 407 of the Health and Human Services Act of 1986, which amended Section 1323 of the Food and Security Act of 1985. 7 CFR part 1951, subpart R contains regulations for servicing and liquidating existing loans previously approved and administered by the U.S. Department of Health and Human Services (HHS) under 45 CFR part 1076 and transferred from HHS to the Department of Agriculture. This subpart contains regulations for servicing and liquidating loans made by RD under the Intermediary Relending Program to eligible intermediaries and applies to ultimate recipients and other involved parties.

Need and Use of the Information: The information requested is a statement of financial condition from the intermediary, i.e. assets and liabilities, income statement and a summary of the intermediary's total lending program. The required financial information provided by the Intermediary is vital to RD for the Agency to make sound credit and financial analysis decisions and monitor the program.

Description of Respondents: Not-for-profit institutions; Business or other for-profit.

Number of Respondents: 450.

Frequency of Responses: Reporting: On occasion; Quarterly; Semi-annually; Annually.

Total Burden Hours: 11,253.

Ruth Brown,
Departmental Information Collection Clearance Officer.

[FR Doc. 2018-20686 Filed 9-21-18; 8:45 am]

BILLING CODE 3410-XY-P